DEPARTMENT OF VETERANS AFFAIRS

[OMB Control No. 2900-0670]

Agency Information Collection (Fiduciary Statement in Support of Appointment) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before January 22, 2009.

ADDRESSES: Submit written comments on the collection of information through http://www.Regulations.gov or to VA's OMB Desk Officer, OMB Human Resources and Housing Branch, New Executive Office Building, Room 10235, Washington, DC 20503 (202) 395-7316. Please refer to “OMB Control No. 2900-0670” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@mail.va.gov. Please refer to “OMB Control No. 2900-0670.”

SUPPLEMENTARY INFORMATION: Title: Fiduciary Statement in Support of Appointment, VA Form 21-0792.

OMB Control Number: 2900-0670.

Type of Review: Extension of a currently approved collection.

Abstract: Individual's seeking appointment as a fiduciary of VA beneficiaries complete VA Form 21-0792. VA uses the data collected to determine the individual's qualification as a fiduciary and to inquire about his or her credit and criminal background.

An agency may not conduct or sponsor, and a person is not required to respond to a collection of information unless it displays a currently valid OMB control number. The Federal Register Notice with a 60-day comment period soliciting comments on this collection of information was published on October 15, 2008, at page 61195.

Affected Public: Individuals or households.

Estimated Annual Burden: 1,875 hours.

Estimated Average Burden per Respondent: 15 minutes.

Frequency of Response: One time.

Estimated Number of Respondents: 7,500.

Dated: December 16, 2008.
By direction of the Secretary.
Denise McLamb,
Program Analyst, Enterprise Records Service.

[FR Doc. E8-30594 Filed 12-22-08; 8:45 am]

BILLING CODE 8320-01-P